FEDERAL COMMUNICATIONS COMMISSION

[DA 06-1639]

Payment Methods and Procedures for Fiscal Year 2006 Regulatory Fees

AGENCY: Federal Communications Commission.

ACTION: Notice.

SUMMARY: By this document, the Commission announces, the FY 2006 regulatory fee payment window is now available to accept the annual regulatory fees from licensees and regulatees.

DATES: Payments due September 6, 2006 through September 19, 2006, 11:59 p.m.

ADDRESSES: Mail payment of billed regulatory fees to Federal Communications Commission, Regulatory Fees, P.O. Box 358365, Pittsburgh, PA 15251-5365.

Courier delivery address of billed regulatory fees to Federal Communications Commission, Regulatory Fees, c/o Mellon Client Service Center, 500 Ross Street, Room 670, Pittsburgh, PA 15262-0001, Attn: FCC Module Supervisor. See SUPPLEMENTARY INFORMATION for payment procedures for all other entities.

FOR FURTHER INFORMATION CONTACT: Regina Dorsey, Special Assistant to the Chief Financial Officer, at 1-202-418-1993, or by e-mail at regina.dorsey@fcc.gov.

SUPPLEMENTARY INFORMATION: This is a summary of the Commission's Public Notice, released August 21, 2006. The complete text of the Public Notice is available for public inspection and copying from 8 a.m. to 4:30 p.m. Monday through Thursday or from 8 a.m. to 11:30 p.m. on Friday at the FCC Reference Information Center, Portals II, 445 12th Street, SW., Room CY-A257, Washington, DC 20554 or via the internet at http://www.fcc.gov/fees/regfees.html. Licensees and regulatees who are required to pay annual regulatory fees pursuant to 47 U.S.C. 159 (Pub. L. 103-66) must make their Fiscal Year (FY 2006) fee payments by 11:59 p.m. on September 19, 2006. The official fee payment window will open on September 6, 2006, but payments may be sent prior to September 6. Payments received after 11:59 p.m. on September 19, 2005 will be assessed a 25% late payment penalty. The Commission is required by Congress to collect regulatory fees to recover the regulatory costs associated with its enforcement, policy, rulemaking, user information, and international activities.

Licensees and regulatees pay differing fees dependent on a variety of factors, such as the number of subscribers, number of assigned telephone numbers, or revenue, etc. For more information, on how the FY 2006 regulatory fees were determined or instructions on how to make payment, go to http://www.fcc.gov/fees/regfees.html.

Federal Communications Commission.
Anthony J. Dale,
Managing Director, Office of the Managing Director.

[FR Doc. E6-14433 Filed 8-29-06; 8:45 am]

BILLING CODE 6712-01-P